DEPARTMENT OF THE INTERIOR

National Park Service

Notice of Inventory Completion: Texas Archeological Research Laboratory, The University of Texas at Austin, Austin, TX

AGENCY: National Park Service, Interior.

ACTION: Notice.

Notice is here given in accordance with the Native American Graves Protection and Repatriation Act (NAGPRA), 25 U.S.C. 3003, of the completion of an inventory of human remains in the possession of the Texas Archeological Research Laboratory, The University of Texas at Austin, Austin, TX. The human remains were removed from 2 sites in Caddo and Sabine Parishes, LA, and 54 sites in 19 counties of northeastern Texas.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Texas Archeological Research Laboratory professional staff in consultation with representatives of the Caddo Nation of Oklahoma.

Caddo Parish, LA

In July 1960, human remains representing one individual were removed from the Belcher Mound site near Shreveport by amateur archeologist Ray Ring. Mr. Ring found the bone fragment between Mounds A and B after the mounds had been leveled by machinery following the well-known excavations by Clarence Webb from 1936 to 1954. No known individual was identified. No associated funerary objects are present.

The Belcher site is a dual mound and habitation site that functioned as a ceremonial center and cemetery between circa A.D. 900-1700. The human remains and associated funerary objects removed from the site by Mr. Webb were affiliated with the Caddo Indian Tribe of Oklahoma based on mortuary practices and ceramic styles. A notice of inventory completion was published in the Federal Register on December 13, 2000.

Sabine Parish, LA

In 1962, 1963, and 1965, human remains representing a minimum of six individuals were removed from the Salt Lick site (16SA37A) during excavations by the Texas Archeological Salvage Project at the University of Texas, prior to construction of the Toledo Bend Reservoir. No known individuals were identified. The 13 associated funerary objects are 12 pottery vessels and 1 ceramic pipe.

The Salt Lick site was a Prehistoric period cemetery containing 10 graves. The human remains found in four graves were poorly preserved and were not removed. Burials 1 through 6 were shallow, flexed, and in random orientation. Burials 7 through 10 were deep, extended, and similarly oriented. The consistency of the associated funerary objects among the 10 burials, however, suggests that they were contemporaneous.

The location of the cemetery on land historically occupied by the Caddo Indians, mode of interment, and nature of the associated funerary objects indicate that the human remains and associated funerary objects are culturally affiliated with the Caddo Nation of Oklahoma.

Anderson County, TX

In 1935, human remains representing one individual were removed from the Isibell-Gene Donnell site (41AN14) by the University of Texas after relic collectors had located the Prehistoric period cemetery and habitation area. No known individual was identified. The 11 associated funerary objects are 7 pottery vessels and 4 arrow points.

In 1931, human remains representing one individual were removed from the Emma Owens Farm site (41AN21) by the University of Texas. A known Caddo habitation area was located nearby. No known individual was identified. The three associated funerary objects are one pottery vessel, one piece of hematite, and one metal knife.

In 1935, human remains representing two individuals were removed from the Fred McKee Farm site (41AN32) by the University of Texas. The site contained three Prehistoric period graves, but the human remains from one were poorly preserved and were left in place. No known individuals were identified. The 22 associated funerary objects are 12 pottery vessels and 10 projectile points.

In 1931, human remains representing one individual were removed from the Pierce Freeman Farm site, (41AN34) by the University of Texas. The Prehistoric period cemetery contained four graves, but the human remains from three graves were poorly preserved and were left in place. No known individual was identified. The two associated funerary objects are pottery vessels.

In 1930, human remains representing one individual were removed from the E.W. Ellis Farm site (41AN36) by the landowner and were later donated to the University of Texas. The grave was determined to be an isolated Prehistoric period burial. No known individual was identified. No associated funerary objects are present.

In 1934 and 1935, human remains representing three individuals were removed from the O.L. Ellis Farm site (41AN54). Unknown relic collectors located the Prehistoric period cemetery and excavated two graves. The human remains from one grave were donated to the University of Texas. The University of Texas later excavated another two graves. No known individuals were identified. The 20 associated funerary objects are 17 pottery vessels, 13 of which were purchased from the original collectors, 1 scraper, 1 mano, and 1 projectile point.

In 1929, human remains representing a minimum of one individual were removed from a Prehistoric period grave on the Lee Ellis Farm (41AN56) by the landowner. In 1931, the University of Texas purchased the human remains and associated funerary objects. No known individual was identified. The two associated funerary objects are one arrow point and one pottery vessel.

Bowie County, TX

In 1932, human remains representing nine individuals were removed from the Eli Moore site (41BW2) by the University of Texas. Eight of the individuals were removed from one of two mounds at the Prehistoric period site; the other individual had been disturbed by plowing a short distance from the mounds. It has been determined after examination by numerous physical anthropologists that one additional interment was intrusive into the mound and that the human remains are not those of a Native American. The site is believed to be part of an Upper Nasoni village visited frequently by European explorers in the late 1600s and 1700s. The Texas Archeological Research Laboratory is in possession of human remains representing six Native American individuals from the Eli Moore site. The location of the human remains of the other three Native American individuals is not known. No known individuals were identified. The 17 associated funerary objects are 6 pottery vessels, 4 arrow points, 4 shell beads, 1 turtle shell, 1 baculum, and 1 bone needle.

In 1939 and 1940, human remains representing a minimum of 14 individuals were removed from the A.J. Hatchel site (41BW3) by the Works Progress Administration-University of Texas at Austin. The remaining 17 interments discovered during exploration were left in place. The site is believed to be part of the Upper Nasoni village mentioned above. No known individuals were identified. The 18 associated funerary objects are 17 pottery vessels and 1 celt fragment.

In 1932, human remains representing a minimum of four individuals were removed from the Mitchell site (41BW4) by the University of Texas at Austin, and in 1939 and 1940, the Works Progress Administration-University of Texas removed additional human remains representing a minimum of 67 individuals from another area of the site. The Mitchell site is also considered to be a part of the Upper Nasoni village visited by several European explorers. No known individuals were identified. No associated funerary objects are present from the 1932 excavation. The 174 associated funerary objects from the latter excavation are 111 pottery vessels, 52 beads, 3 ceramic pipes, 3 mussel shells, 2 turtle shells, 2 bone needles, and 1 shell gorget.

In 1962, human remains representing two individuals, which had been removed on an unknown date from the Stovers Lake site (41BW8) by relic collectors, were donated to the University of Texas. No known individuals were identified. No associated funerary objects are present.

Camp County, TX

At an unknown date, human remains representing one individual were removed from the G.W. Rumsey Farm site (41CP3) under unknown circumstances. The site is a large multi-component cemetery with a small habitation area nearby. No records exist to document the acquisition of the human remains. No known individual was identified. No associated funerary objects are present.

Cass County, TX

Prior to 1962, human remains representing one individual were removed from the “Berry” site under unknown circumstances. The human remains were acquired by the University of Texas as part of the J.D. Scurlock Collection. Details of the acquisition are not documented, but it is thought that this site may be the same as the Berry Farm site (41BW57), a Prehistoric period Caddo cemetery located near the Bowie/Cass County line. No known individuals were identified. No associated funerary objects are present.

In 1932, human remains representing a minimum of 13 individuals were removed from a Prehistoric period cemetery at the Goode Hunt site (41CS23) by the University of Texas. Four sets of poorly preserved human remains were not removed. No known individuals were identified. The 77 associated funerary objects are 64 pottery vessels, 5 mussel shells, 4 pitted stones, 1 abraded stone, 1 pigment sample, 1 mano, and 1 boatstone.

In 1932, human remains representing a minimum of 26 individuals were removed from the Clements Brothers Farm site (41CS25 ) by the University of Texas. The site is a Late Prehistoric/Historic period cemetery that had been looted previously by relic collectors. Some of the human remains were poorly preserved and were not removed. Seven of the 26 sets of human remains are believed to have been recovered from a deposit adjacent to the cemetery, referred to as a midden area. No known individuals were identified. The 124 associated funerary objects are 33 pottery vessels, 72 beads, 4 pigment samples, 2 dart points, 2 arrow points, 1 deer bone, 1 pebble, 1 pitted stone, 1 bone awl, 1 shell pendant, 1 scraper, 1 mussel shell, 1 clay knob, 1 terrapin shell, 1 shell disc, and 1 ceramic pipe.

In 1959, human remains representing one individual, which had been removed at an unknown date from the Sulphur River site (41CS27) by an avocational archeologist, were donated to the University of Texas. No known individual was identified. No associated funerary objects are present.

Cherokee County, TX

In 1935, human remains representing four individuals were removed from the Solon Stanley Farm site (41CE3) by the University of Texas. The four Prehistoric period graves at the site had been previously disturbed by relic collectors. No known individuals were identified. The 20 associated funerary objects are pottery vessels.

In 1935, human remains representing five individuals were removed from the J.W. Blackburn site (41CE4) by the University of Texas. The site is described as a Prehistoric period cemetery with a habitation area located nearby. No known individuals were identified. The 26 associated funerary objects are pottery vessels.

In 1935, human remains representing two individuals were removed from the E.W. Hackney site (41CE6) by the University of Texas. The burials have been dated to the Protohistoric or Historic period. No known individuals were identified. The 41 associated funerary objects are 29 shell beads, 8 pottery vessels, and 4 projectile points.

In 1935, human remains representing a minimum of 13 individuals were removed from the Jim Allen site (41CE12) by the University of Texas. The site was determined to be a Protohistoric/Historic cemetery. Associated funerary objects found with one burial date to the European contact period. No known individuals were identified. The 46 associated funerary objects are 27 pottery vessels, 8 glass beads, 7 shell beads, 3 arrow points, and 1 biface.

In 1935, human remains representing two individuals were removed from the A.H. Reagor Farm site (41CE15) by the University of Texas. The Prehistoric period graves were located near a habitation area. No known individuals were identified. The seven associated funerary objects are three pottery vessels, two pot sherds, one mussel shell, and one biface.

In 1935, human remains representing a minimum of eight individuals were removed from the E.W. Henry Farm site (41CE17) by the University of Texas. The site is described as a Prehistoric period cemetery with a large habitation area nearby. The human remains from three burials were poorly preserved and were left in place. No known individuals were identified. The 20 associated funerary objects are 19 pottery vessels and 1 ceramic pipe.

In 1968, 1969, and 1970, human remains representing 14 individuals were removed from the George C. Davis site (41CE19) by the University of Texas, Texas Archeological Research Laboratory. The site, now the Caddoan Mounds State Park, consists of three earthen mounds, including one burial mound, one borrow pit, and an extensive village dating from Pre-Caddoan to Late Caddoan periods. The site was most heavily occupied during the Early Caddoan period. All burials found during the excavations date to the very early Caddoan period (circa A.D. 800-1200). No known individuals were identified. The 560 associated funerary objects are 197 arrow points, 137 disc beads, 33 organic materials, 30 bivalves, 24 bone pins, 19 bifaces, 15 blue, gray, green, purple, and red pigment samples, 11 earspools, 10 lithic flakes, 9 flint flakes, 13 celts, 7 pieces of bark cloth, 7 faunal bones and bone fragments, 7 conch shells, 5 pottery vessels, 4 copper and copper salt samples, 4 animal incisor fragments, 3 necklaces, 3 boatstones, 2 pearl beads, 2 bead headbands, 2 wooden objects, 2 stone pipes, 1 marine shell belt, 1 bone awl, 1 cane object, 1 piece of matting, 1 piece of red ochre, 1 ornament, 1 pebble, 1 perforated disc, 1 sandstone, 1 shell, 1 sherd, 1 piece of animal skin, 1 smoothed stone, and 1 turtle shell.

In 1962, human remains representing one individual, which had been removed from the Forest Mound site (41CE290) by an avocational archeologist, were donated to the University of Texas. The burial was from a natural formation that resembled a mound. No known individual was identified. No associated funerary objects are present.

Delta County, TX

In 1962 and 1963, human remains representing two individuals were removed from the L.O. Ray site (41DT21) by the Dallas Archeological Society. The human remains were acquired by the University of Texas in August 1969. The site is a Prehistoric period habitation area. No known individuals were identified. No associated funerary objects are present.

Franklin County, TX

In 1930, human remains representing two individuals were removed from the R.L. Jaggers site (41FK3) by the University of Texas. Of the four Prehistoric period graves found at the site, one burial was a cremation deposit that was not removed; another burial contained poorly preserved human remains that were not removed. No known individuals were identified. The six associated funerary objects are four pottery vessels and two projectile points.

In 1934, human remains representing two individuals were removed from the P.G. Hightower site (41FK7) by the University of Texas. The site is a Prehistoric period cemetery. No known individuals were identified. The three associated funerary objects are one arrow point, one pitted stone, and one sandstone.

Harrison County, TX

In 1931, human remains representing one individual were removed from the H.R. Taylor site (41HS3) by the University of Texas. The Prehistoric period cemetery contained 64 graves, but the human remains from 63 graves were poorly preserved and were not removed. No known individual was identified. No associated funerary objects are present.

In 1962, human remains representing six individuals were removed from the Susie Slade site (41HS13) by relic collectors and donated to the University of Texas. The associated funerary objects, however, were retained by the collectors. The same year, human remains from two other graves representing two individuals were excavated by the University of Texas. No known individuals were identified. The 38 associated funerary objects are 15 blue glass beads, 15 conch shell beads, 5 pottery vessels, 1 arrow point, 1 shell, and 1 pigment sample.

In 1986, human remains representing a minimum of nine individuals were removed from site 41HS74 by Heartfield, Price & Greene, Inc., prior to lignite mining activities. The site is a Prehistoric period habitation area and cemetery. The human remains were transferred to the University of Texas in 2001. No known individuals were identified. The 20 associated funerary objects are pottery vessels.

Hopkins County, TX

In 1931, human remains representing one individual were removed from the Culpepper site (41HP1) by the University of Texas. The Prehistoric period cemetery and habitation area contained eight graves, but most of the human remains were disturbed and so poorly preserved that they were not removed. No known individual was identified. The six associated funerary objects are pottery vessels.

In 1934, human remains representing one individual were removed from the Alford site (41HP5) by the University of Texas. The site had been disturbed earlier by local relic collectors. No known individual was identified. The two associated funerary objects are 1 shell gorget, which was purchased from the original collectors, and one arrow point.

Lamar County, TX

In 1931, human remains representing a minimum of 10 individuals were removed from the H.E. Womack site (41LR1) by the University of Texas. The site is a Prehistoric and Historic period habitation area and cemetery. No known individuals were identified. The 44 associated funerary objects are 27 blue and white beads, 6 pieces of red ochre, 5 pottery vessels, 2 pebbles, 1 scraper, 1 sandstone, 1 biface, and 1 modified faunal bone.

In 1931, human remains representing a minimum of 96 individuals were removed from the T.M. Sanders site (41LR2) by the landowner and the University of Texas. The human remains unearthed by the landowner were acquired by the University of Texas. The site is a habitation area between two Prehistoric period mounds. No known individuals were identified. The 6,604 associated funerary objects are 6,416 shell beads, 20 pearl beads, 2 columella beads, 55 pottery vessels, 30 seeds, 14 arrow points, 12 shell gorgets, 12 shell discs, 9 shell pendants, 6 stone and clay pipes, 5 biface, 5 bone awls, 4 bone hoes, 2 conch shells, 2 pearls, 1 bone needle, 1 celt, 1 collection of fish bones, 1 flint scraper, 1 mussel shell, 1 piece of red ochre, 1 piece of yellow ochre, 1 sample of green pigment, 1 pottery disc, and 1 stone earplug.

In 1934, human remains representing one individual were removed from a Prehistoric period grave on the Matt Reese Farm site (41LR3) by an avocational archeologist. The human remains were donated to the University of Texas the same year as part of the W.A. Rickard collection. No known individual was identified. No associated funerary objects are present.

Morris County, TX

In 1930, human remains representing a minimum of three individuals were removed from the R.L. Cason site (41MX1) by the University of Texas. The site is a Prehistoric period cemetery containing four graves. The human remains of one individual were poorly preserved and were left in place. No known individuals were identified. The 27 associated funerary objects are 19 pottery vessels, 7 arrow points, and 1 stone celt.

In 1931, human remains representing a minimum of one individual, which had been removed from the Prehistoric period Hooper Glover Farm site (41MX4) by relic collectors, were purchased by the University of Texas. No known individual was identified. No associated funerary objects are present.

In 1930, human remains representing four individuals were removed from the Richard Watson Farm site (41MX6) by the University of Texas. The site is a Prehistoric period cemetery. No known individuals were identified. No associated funerary objects are present.

Nacogdoches County, TX

In 1939, human remains representing a minimum of two individuals were removed from Prehistoric period site 41NA3 by the Texas Highway Department and transferred to the University of Texas the same year. No known individuals were identified. The one associated funerary object is a pottery vessel.

In 1975, human remains representing a minimum of one individual were removed from the Deshazo site (41NA27) by the University of Texas. The cemetery has both prehistoric and historic components. The human remains from two graves were poorly preserved and were not removed. No known individuals were identified. The one associated funerary object is a pottery vessel.

Red River County, TX

In 1930, human remains representing two individuals were removed from a Prehistoric period earthen mound at site 41RR3 by a relic collector. The human remains and some associated funerary objects were donated to the University of Texas in 1931. No known individuals were identified. The eight associated funerary objects are five pottery vessels, two conch shell beads, and one biface.

In 1927 or before, human remains representing one individual were removed from the S.E. Watson site (41RR8), also known as he Chapman Plantation by the landowner after flooding had exposed the Prehistoric period grave. The human remains were donated to the University of Texas in 1927 and the associated funerary objects were purchased by the university from the landowner the same year. No known individual was identified. The 18 associated funerary objects are 14 pottery vessels, 3 celts, and 1 dart point.

In 1988, human remains representing a minimum of one individual were removed from the Sam Kaufman site (41RR16) by a relic collector and donated to the University of Texas. The age of the site is unknown. No known individual was identified. No associated funerary objects are present.

Sabine County, TX

In 1939, human remains representing a minimum of three individuals were removed from the Beckham Place site (41SB35) by the University of Texas. Several years earlier, a relic collector had unearthed the prehistoric flexed burials and reburied the human remains as a group, keeping the associated funerary objects. No known individuals were identified. No associated funerary objects are present.

Shelby County, TX

In 1931, human remains representing two individuals were discovered at site 41SY24 by county road crews. The prehistoric human remains and associated funerary objects were removed by Frank Bussey and donated to the University of Texas. No known individuals were identified. The 92 associated funerary objects are 76 sherds, 7 pottery vessels, 7 projectile points, 1 pipe stem fragment, and 1 clay ladle.

Smith County, TX

In 1958, human remains representing two individuals were removed from the Prehistoric period Henry Chapman Farm site (41SM56) by an avocational archeologist. The human remains were donated to the University of Texas in 1959. No known individuals were identified. No associated funerary objects are present.

Titus County, TX

In 1934, human remains representing a minimum of five individuals were removed from the William Farrar Farm site (41TT1) by the University of Texas. The site includes a Prehistoric period cemetery and habitation area. Two burials were found in a flexed position. No known individuals were identified. The three associated funerary objects are pottery vessels.

In 1934, human remains representing five individuals were removed from three Prehistoric period graves at site 41TT2 by the University of Texas, after the burials were discovered by the landowner. The human remains from nine graves were poorly preserved and were not removed. No known individuals were identified. The four associated funerary objects are two pottery vessels, one celt, and one quartzite core.

In 1959, human remains representing two individuals, which had been removed from the Alex Justice site (41TT13) by two avocational archeologists, were donated to the University of Texas. Records indicate that the collectors excavated 24 burials from the Late Prehistoric period cemetery. No known individuals were identified. No associated funerary objects are present.

In 1934, human remains representing a minimum of one individual, which had been removed from the Prehistoric period C.T. Coley Farm site (41TT17) by the landowner, were acquired by the University of Texas. No known individual was identified. No associated funerary objects are present.

Van Zandt County, TX

In 1940, human remains representing two individuals were removed from site 41VN6 by the University of Texas in cooperation with the Works Progress Administration. A Prehistoric period cemetery, habitation area, and earthen mound were excavated at the site. Eight graves were located, but most of the human remains were poorly preserved and not removed. No known individuals were identified. No associated funerary objects are present.

Wood County, TX

In 1934, human remains representing one individual were removed from the A.C. Gibson site (41WD1) by the University of Texas. Three Prehistoric period graves were excavated, but the human remains in two of the graves were poorly preserved and not removed. No known individual was identified. The three associated funerary objects are two mussel shells and one dart point.

In 1930, human remains representing one individual were removed from the J.H. Reese Farm site (41WD2) by the University of Texas. The human remains from two other burials were poorly preserved and not removed. The three Prehistoric period burials had been unearthed and reburied previously by the landowner. No known individual was identified. No associated funerary objects are present. Funerary objects were purchased by the university from the landowner, but they cannot be specifically associated with the recovered human remains.

In 1931, human remains representing two individuals were removed from the Prehistoric period H.D. Spigner Farm site (41WD4) by the University of Texas. No known individuals were identified. No associated funerary objects are present. The landowner retained possession of the human remains and funerary objects from three other graves that had been unearthed previously.

Historical evidence and oral history indicate that a large area of northeast Texas, including the counties encompassing the 56 sites described above, is part of the traditional territory of the Caddo people. Archeological, historical, and oral history evidence indicates that settlements within this region exhibit a cultural continuity dating from circa A.D. 1000 and continuing into the Historic period. Cultural affiliation with the Caddo Nation of Oklahoma is also based on the nature of the sites from which the human remains were obtained, the mode of interment, the kinds of associated funerary objects, including whole pottery vessels, and the cranial deformation exhibited in some of the human remains.

Officials of the Texas Archeological Research Laboratory have determined that, pursuant to 25 U.S.C. 3001 (9-10), the human remains described above represent the physical remains of a minimum of 308 individuals of Native American ancestry. Officials of the Texas Archeological Research Laboratory also have determined that, pursuant to 25 U.S.C. 3001 (3)(A), the 8,083 objects described above are reasonably believed to have been placed with or near individual human remains at the time of death or later as part of the death rite or ceremony. Lastly, officials of the Texas Archeological Research Laboratory have determined that, pursuant to 25 U.S.C. 3001 (2), there is a relationship of shared group identity that can be reasonably traced between the Native American human remains and the Caddo Nation of Oklahoma.

Representatives of any other Indian tribe that believes itself to be culturally affiliated with the human remains and associated funerary objects should contact Dr. Darrell Creel, Director, Texas Archeological Research Laboratory, 1 University Station, R7500, The University of Texas at Austin, Austin, TX 78712-0714, telephone (512) 471-5960, before February 7, 2005. Repatriation of the human remains to the Caddo Nation of Oklahoma may proceed after that date if no additional claimants come forward.

The Texas Archeological Research Laboratory is responsible for notifying the Caddo Nation of Oklahoma that this notice has been published.

Dated: December 13, 2004
Sherry Hutt,
Manager, National NAGPRA Program.

[FR Doc. 05-244 Filed 1-5-05; 8:45 am]

BILLING CODE 4312-50-S